FEDERAL COMMUNICATIONS COMMISSION

Public Information Collection Requirement Submitted to OMB for Emergency Review and Approval

August 30, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 12, 2007. If you anticipate that you will be submitting comments, but find it difficult to do so within the period of time allowed by this notice, you should advise the contacts listed below as soon as possible.

ADDRESSES: Direct all PRA comments to Nicholas A. Fraser, Office of Management and Budget, via e-mail to nfraser@omb.eop.gov or via fax at 202-395-5167, and to the Federal Communications Commission via e-mail to PRA@fcc.gov or by U.S. mail to Jerry Cowden, Federal Communications Commission, Room 1-B135, 445 12th Street, SW., Washington, DC 20554.

FOR FURTHER INFORMATION CONTACT: For additional information contact Jerry Cowden via e-mail at PRA@fcc.gov or at 202-418-0447. If you would like to obtain or view a copy of this information collection you may do so by visiting the FCC PRA Web page at: http://www.fcc.gov/omd/pra.

SUPPLEMENTARY INFORMATION: The Commission is requesting emergency OMB processing of this information collection and has requested OMB approval by September 19, 2007.

OMB Control Number: None.

Title: Information collection for Emergency Communications Back-Up System Report to Congress.

Form No.: Not applicable.

Type of Review: New collection.

Respondents: Businesses or other for-profit; not-for-profit institutions; and state, local or tribal governments.

Number of Respondents: 45 respondents; 45 responses.

Estimated Time per Response: 40 hours.

Frequency of Response: One-time reporting.

Obligation to Respond: Voluntary.

Total Annual Burden: 1,800 hours.

Total Annual Cost: $33,000. This is based on an estimate that half the respondents (22) will fly a representative (or representatives) the equivalent of a coast-to-coast round trip to Washington, DC and will have lodging for one night. The average cost of a single round trip fare and one night lodging is estimated to be $1500.

Nature and Extent of Confidentiality: The Commission will work with respondents to ensure that their concerns regarding the confidentiality of any proprietary or business-sensitive information are resolved in a manner consistent with the Commission's rules.

Privacy Act Impact Assessment: This information collection does not affect individuals or households, and therefore a privacy impact assessment is not required.

Needs and Uses: The information collection sought will enable the Commission to fulfill its obligation under the Implementing Recommendations of the 9/11 Commission Act of 2007 (Act), Public Law 110-53. The purpose of the Act is to “provide for the implementation of the recommendations of the National Commission on Terrorist Attacks Upon the United States.” Towards this end, the Act mandates that the Commission “shall conduct a vulnerability assessment of the Nation's critical communications and information systems infrastructure and shall evaluate the technical feasibility of creating a back-up emergency communications system that complements existing communications resources and takes into account next generation and advanced communications technologies.” The Commission must submit a report to Congress that details the findings of this evaluation not later than 180 days after the date of enactment of the Act (since the Act was enacted on August 3, 2007, the report will be due to Congress on January 30, 2008).

To complete this report, the Commission seeks to collect information primarily through face-to-face meetings, phone calls (including conference calls), and e-mail correspondence with commercial service and network operators (i.e., private satellite, wireline, and wireless operators, circuit and packet network operators), users (or owners) of emergency communication systems and networks, (e.g., emergency responders including first responders, 9-1-1 system and dispatch operators, federal, state and local emergency agencies), and their associations, manufacturers of public safety equipment and emergency communications networks and systems, operators of networks for emergency responders, and standards organizations and industry groups working on public safety equipment and emergency communications networks and systems and standards. Information will be sought concerning emergency communications networks, including user devices, network equipment, operations processes and operations systems, and concerning the feasibility of commercial service providers to support the needs of public safety, including: (1) Technical capabilities and characteristics of equipment (e.g., analog/digital, power, range, access protocol, broadband/wideband/narrowband, etc.), (2) technical capabilities and characteristics of commercial services to support the needs of public safety, (3) cost and deployment of commercial services for use by public safety, (4) cost of user devices and network equipment of emergency communications networks (e.g., unit cost, maintenance/upgrade cost, etc.), and the cost of operations and operations systems (including feature upgrades) for emergency communications networks and services, (5) deployment of user devices, network equipment, and operations processes and equipment of emergency communications systems (e.g., type of systems deployed or to be deployed), number of units deployed/sold, etc.), (6) standardization of user devices, network equipment, and operations interfaces of emergency communications systems (e.g., standard/proprietary, standard activities, etc.), (7) interoperability (i.e., the ability of communications among different systems, devices and groups) of user groups, user devices, network equipment, and operations processes and equipment of emergency communications systems (e.g., interoperability among first responders within a jurisdiction, among jurisdictions using the same and different network technologies), (8) spectrum usage of user devices and network equipment of emergency communications systems (e.g., frequencies of operation, shared/dedicated spectrum, etc.), (9) applications and application requirements for end users and the technical requirements for such applications including bandwidth needs, (10) operations systems features and operations processes supporting emergency network operation during an emergency, (11) service capabilities (e.g., voice, data, video, mobile to mobile communications, etc.), (12) evolutionary trend of user devices, network equipment, and operations of emergency communications systems (e.g., next generation, migration path, etc.), (13) backhaul connectivity of network equipment and facilities (e.g., commercial/private, wired/wireless, capacity, etc.), (14) description of network technology and architecture (e.g., whether the network design accommodates access to emergency responders from other jurisdictions, capability of architecture to support resiliency in disaster situations, etc.), (15) operations budget for the network, (16) responsibilities of the organizations operating the networks, including service provisioning, traffic management and network maintenance, especially during an emergency, (17) plans, if any, for restoring emergency communication services or reverting to backup networks in the event that a primary emergency communications network is damaged or destroyed, (18) ability of existing emergency communications networks to back up or complement the communication resources of other emergency communications networks, (19) ability to rapidly increase emergency communication network capacity in the event that the capacity limits of the network are exceeded in a major disaster, (20) a description of the role of “core services” such as authentication and agency locator services, whether and how they are implemented in existing and planned networks, and their costs, (21) a description of the processes and systems used or planned to connect emergency responders to a back-up network in an emergency, and (22) plans to restore emergency communications services if the network over which they are provided is damaged, destroyed, or sufficiently congested to be impaired or unusable (e.g., changes in operations staffing in emergency conditions, dynamic bandwidth allocation to users or networks, back-up communications for other emergency communications services or networks), other administrative or planning issues associated with the deployment and maintenance of such backup national emergency communications capabilities.

Federal Communications Commission.
William F. Caton,
Deputy Secretary.

[FR Doc. E7-17507 Filed 9-4-07; 8:45 am]

BILLING CODE 6712-01-P